GULF COAST ECOSYSTEM RESTORATION COUNCIL

Senior Executive Service Performance Review Board Membership

AGENCY: Gulf Coast Ecosystem Restoration Council.

ACTION: Notice of Performance Review Board appointments.

SUMMARY: This notice announces the members of the Senior Executive Service Performance Review Board (PRB) for the Gulf Coast Ecosystem Restoration Council as required by 5 U.S.C. 4314(c)(4). The PRB is comprised of a Chairperson and a mix of career Federal senior executives and State members from the Council. The PRB meets annually to review and evaluate performance appraisal documents and provides a written recommendation to the Secretary for final approval of each executive's performance rating, performance-based pay adjustment, and performance award.

DATES: Effective October 6, 2016.

FOR FURTHER INFORMATION CONTACT: Justin Ehrenwerth, Executive Director, GCERC, telephone: (504) 444-3265.

SUPPLEMENTARY INFORMATION: In accordance with 5 U.S.C. 4314(c)(4), the persons named below have been selected to serve on the PRB:

Gulf Coast Ecosystem Restoration Council

Ehrenwerth, Justin

Department of Agriculture

Wilkes, Homer

Environmental Protection Agency

Scaggs, Benjamin

Department of the Interior

Dohner, Cynthia

State of Texas

Tatum, Stephen

State of Florida

Drew, Mimi

Dated: October 31, 2016.
Thomas J. Vilsack,
Secretary.

[FR Doc. 2016-26940 Filed 11-7-16; 8:45 am]

BILLING CODE 6560-58-P